DEPARTMENT OF JUSTICE

Antitrust Division

Notice Pursuant to the National Cooperative Research and Production Act of 1993—Z-Wave Alliance, Inc.

Notice is hereby given that, on August 4, 2023, pursuant to section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, Bettina Roll (individual member), Greve, DENMARK has been added as a party to this venture.

Also, Robotix.be, Wezembeek-Oppem, BELGIUM; D2E Electrical, New South Wales, AUSTRALIA; Establishment Hulul al-Manazil For Real Estate Development, Jedda City, SAUDI ARABIA; Black Watch Systems, LLC, Snyder, TX; MY CLIMA GREEN ENERGIE SRLS, Milano, ITALY; FireAvert, LLC, Springville, UT; NexMetro Development, LLC, Phoenix, AZ; Trinitas All Electric, LLC, Opelousas, LA; Sengled, Shanghai City, PEOPLE'S REPUBLIC OF CHINA; Logic Group A/S, Broendby, DENMARK; ABUS Security Center GmbH & Co. KG, Affing, GERMANY; ABUS KG, Wetter, GERMANY; Good Energy Solutions, Lawrence, KS; COMPUTIME Ltd., Pak Shek Kok, HONG KONG-CHINA; Security Specialists Ltd., Dunedin, NEW ZEALAND; and OBLO Living, Novi Sad, SERBIA have withdrawn as parties to this venture.

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on May 12, 2023. A notice was published in the Federal Register pursuant to section 6(b) of the Act on June 13, 2023 (88 FR 38540).

Suzanne Morris,
Deputy Director Civil Enforcement Operations, Antitrust Division.

[FR Doc. 2023-22248 Filed 10-5-23; 8:45 am]

BILLING CODE P